DEPARTMENT OF THE INTERIOR

Office of the Secretary

Reestablishment of the Lake Champlain Sea Lamprey Control Alternatives Workgroup

AGENCY: Office of the Secretary, Interior.

ACTION: Notice of Reestablishment.

SUMMARY: The Secretary of the Interior (Secretary), after consultation with the General Services Administration, has reestablished the Lake Champlain Sea Lamprey Control Alternatives Workgroup (Workgroup) for 2 years. The Workgroup provides an opportunity for stakeholders to give policy and technical input on efforts to develop and implement sea lamprey control techniques alternative to lampricides in Lake Champlain.

DATES: The Council's charter will be filed under the Federal Advisory Committee Act August 19, 2008.

FOR FURTHER INFORMATION CONTACT: Dave Tilton, Fish and Wildlife Service, Lake Champlain Fish and Wildlife Resources Complex, 11 Lincoln Street, Essex Junction, VT 05452, 802-872-0629, extension 12.

SUPPLEMENTARY INFORMATION: The Workgroup conducts its operations in accordance with the provisions of the Federal Advisory Committee Act (5 U.S.C. Appendix). It reports to the Secretary through the Fish and Wildlife Service (Service) and Lake Champlain Fish and Wildlife Management Cooperative (Cooperative) and functions solely as an advisory body. The Workgroup provides recommendations and advice to the Cooperative. Specific responsibilities of the Workgroup are to provide recommendations on: (1) Feasible and appropriate sea lamprey management methods alternative to lampricides; (2) funding priorities for research and/or demonstration projects; (3) facilitating coordinated research between Lake Champlain and the Great Lakes; and (4) development of requests for proposals, project proposals, and research efforts affecting the Lake Champlain Basin.

The Workgroup consists of up to 20 members representing Federal and State agencies and stakeholders. In addition, up to five of the members may be special Government employees, selected for their scientific expertise. All members are knowledgeable about Lake Champlain fishery management issues, including sea lamprey control.

The Certification for reestablishment is published below.

Certification

I hereby certify that the Lake Champlain Sea Lamprey Control Alternatives Workgroup (Workgroup) is necessary and is in the public interest in connection with the performance of duties imposed on the Department of the Interior through the Supplemental Environmental Impact Statement for a Long-term Program of Sea Lamprey Control in Lake Champlain as published in 2001 (66 FR 46651, September 6, 2001).

Dated: July 24, 2008.
Dirk Kempthorne,
Secretary of the Interior.

[FR Doc. E8-17737 Filed 8-1-08; 8:45 am]

BILLING CODE 4310-55-P